DEPARTMENT OF HOMELAND SECURITY

Federal Emergency Management Agency

[Docket ID FEMA-2025-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: David N. Bascom, Acting Director, Engineering and Modeling Division, National Flood Insurance Program, Resilience, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Assistant Administrator for the Federal Insurance Directorate, Resilience, has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The current effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Elizabeth Asche,
Assistant Administrator, Federal Insurance Directorate, Resilience Federal Emergency Management Agency, Department of Homeland Security.

State and county | Location and case No. | Chief executive officer of community | Community map repository | Date of modification | Community No.
Alabama:
Lee (FEMA Docket No.: B-2542) | City of Auburn (25-04-4206P) | The Honorable Ron Anders Jr., Mayor, City of Auburn, 144 Tichenor Avenue, Suite 1, Auburn, AL 36830 | City Hall, 144 Tichenor Avenue, Auburn, AL 36830 | Oct. 8, 2025 | 010144
Lee (FEMA Docket No.: B-2542) | Unincorporated areas of Lee County (25-04-4206P) | The Honorable Jeff Colley, Chair, Lee County Board of Commissioners, P.O. Box 2266, Opelika, AL 36801 | Lee County Emergency Management Agency, 908 Avenue B, Opelika, AL 36801 | Oct. 8, 2025 | 010250
Arizona:
Coconino (FEMA Docket No.: B-2531) | City of Flagstaff (24-09-0911P) | The Honorable Becky Daggett, Mayor, City of Flagstaff, 211 West Aspen Avenue, Flagstaff, AZ 86001 | City Hall, 211 West Aspen Avenue, Flagstaff, AZ 86001 | Aug. 13, 2025 | 040020
Maricopa (FEMA Docket No.: B-2531) | City of Phoenix (24-09-0695P) | The Honorable Kate Gallego, Mayor, City of Phoenix, 200 West Washington Street, Phoenix, AZ 85003 | City Hall, 200 West Washington Street, Phoenix, AZ 85003 | Aug. 8, 2025 | 040051
Maricopa (FEMA Docket No.: B-2531) | Unincorporated areas of Maricopa County (24-09-0759P) | Jennifer Pokorski, County Manager, Maricopa County, 301 West Jefferson Street, Phoenix, AZ 85003 | Maricopa County Flood Control District, 2801 West Durango Street, Phoenix, AZ 85009 | Aug. 22, 2025 | 040037
Pinal (FEMA Docket No.: B-2531) | Unincorporated areas of Pinal County (24-09-1070P) | The Honorable Stephen Q. Miller, Chair, Pinal County Board of Supervisors, P.O. Box 827, Florence, AZ 85132 | Pinal County Assessor's Office, 31 North Street #E, Florence, AZ 85132 | Aug. 13, 2025 | 040077
California:
Sacramento (FEMA Docket No.: B-2531) | City of Galt (24-09-0242P) | Chris Erias, Interim City Manager, City of Galt, 380 Civic Drive, Galt, CA 95632 | Public Works Department, 495 Industrial Avenue, Galt, CA 95632 | Aug. 25, 2025 | 060264
San Diego (FEMA Docket No.: B-2531) | City of Carlsbad (24-09-0108P) | The Honorable Keith Blackburn, Mayor, City of Carlsbad, 1200 Carlsbad Village Drive, Carlsbad, CA 92008 | Building and Development Department, 1635 Faraday Avenue, Carlsbad, CA 92008 | Aug. 11, 2025 | 060285
San Mateo (FEMA Docket No.: B-2531) | City of Brisbane (23-09-0435P) | The Honorable Cliff Lentz, Mayor, City of Brisbane, 50 Park Place, Brisbane, CA 94005 | City Hall, 50 Park Place, Brisbane, CA 94005 | Aug. 14, 2025 | 060314
Solano (FEMA Docket No.: B-2531) | City of Vacaville (25-09-0052P) | The Honorable John Carli, Mayor, City of Vacaville, 650 Merchant Street, Vacaville, CA 95688 | City Hall, 650 Merchant Street, Vacaville, CA 95688 | Aug. 18, 2025 | 060373
Colorado:
Adams (FEMA Docket No.: B-2531) | Unincorporated areas of Adams County (24-08-0369P) | The Honorable Lynn Baca, Chair, Adams County Board of Commissioners, 4430 South Adams County Parkway, Brighton, CO 80601 | Adams County Community and Economic Development, 4430 South Adams County Parkway, 1st Floor, Suite W2000, Brighton, CO 80601 | Aug. 15, 2025 | 080001
Arapahoe (FEMA Docket No.: B-2531) | City of Aurora (24-08-0369P) | The Honorable Mike Coffman, Mayor, City of Aurora, 15151 East Alameda Parkway, Aurora, CO 80012 | Engineering Department, 15151 East Alameda Parkway, Suite 3200, Aurora, CO 80012 | Aug. 15, 2025 | 080002
Boulder (FEMA Docket No.: B-2531) | Unincorporated areas of Boulder County (25-08-0185P) | The Honorable Marta Loachamin, Chair, Boulder County Board of Commissioners, P.O. Box 471, Boulder, CO 80306 | Boulder County, Community Planning & Permitting Building, 2045 13th Street, Boulder, CO 80302 | Aug. 14, 2025 | 080023
El Paso (FEMA Docket No.: B-2531) | City of Colorado Springs (24-08-0260P) | The Honorable Yemi Mobolade, Mayor, City of Colorado Springs, 30 South Nevada Avenue, Suite 601, Colorado Springs, CO 80903 | Pikes Peak Regional Building Department, 2880 International Circle, Colorado Springs, CO 80910 | Aug. 21, 2025 | 080060
Pueblo (FEMA Docket No.: B-2531) | City of Pueblo (23-08-0781P) | The Honorable Heather Graham, Mayor, City of Pueblo, 1 City Hall Place, Pueblo, CO 81003 | Public Works Department, 211 East D Street, Pueblo, CO 81003 | Sep. 1, 2025 | 085077
Pueblo (FEMA Docket No.: B-2531) | Unincorporated areas of Pueblo County (23-08-0781P) | The Honorable Zach Swearingen, Chair, Pueblo County Board of County Commissioners, 215 West 10th Street, Pueblo, CO 81003 | Pueblo County, Planning and Development Department, 201 West 8th Street, Suite 110, Pueblo, CO 81003 | Sep. 1, 2025 | 080147
Florida:
Marion (FEMA Docket No.: B-2538) | City of Ocala (24-04-6051P) | The Honorable Ben Marciano, Mayor, City of Ocala, 110 Southeast Watula Avenue, Ocala, FL 34471 | Stormwater Engineering Department, 1805 Northeast 30th Avenue, Building 300, Ocala, FL 34470 | Sep. 18, 2025 | 120330
Palm Beach (FEMA Docket No.: B-2546) | Unincorporated areas of Palm Beach County (24-04-3617P) | Verdenia C. Baker, Palm Beach County Administrator, 301 North Olive Avenue, Suite 1101, West Palm Beach, FL 33401 | Palm Beach County Vista Center, Building Division, 2300 North Jog Road, West Palm Beach, FL 33411 | Sep. 15, 2025 | 120192
Polk (FEMA Docket No.: B-2546) | City of Auburndale (24-04-3249P) | The Honorable Dorothea Taylor Bogert, Mayor, City of Auburndale, 1 Bobby Green Plaza, Auburndale, FL 33823 | City Hall, 1 Bobby Green Plaza, Auburndale, FL 33823 | Sep. 18, 2025 | 120262
Polk (FEMA Docket No.: B-2546) | Unincorporated areas of Polk County (24-04-3249P) | Bill Beasley, Polk County Manager, 330 West Church Street, Bartow, FL 33830 | Polk County Land Development Division, 330 West Church Street, Bartow, FL 33830 | Sep. 18, 2025 | 120261
Illinois:
Kendall (FEMA Docket No.: B-2542) | Village of Oswego (25-05-0705P) | The Honorable Ryan Kauffman, Village President, Village of Oswego, 100 Parkers Mill, Oswego, IL 60543 | Village Hall, 100 Parkers Mill, Oswego, IL 60543 | Sep. 19, 2025 | 170345
Kendall (FEMA Docket No.: B-2542) | Unincorporated areas of Kendall County (25-05-0705P) | The Honorable Matt Kellogg, Chair, Kendall County Board, 807 West John Street, Yorkville, IL 60560 | Kendall County Planning, Building and Zoning Department, 807 West John Street, Yorkville, IL 60560 | Sep. 19, 2025 | 170341
Idaho:
Lemhi (FEMA Docket No.: B-2531) | City of Salmon (23-10-0430P) | Breann Green, City Administrator, City of Salmon, 200 Main Street, Salmon, ID 83467 | Building Department, 200 Fulton Street, Suite 204, Salmon, ID 83467 | Aug. 29, 2025 | 160093
Lemhi (FEMA Docket No.: B-2531) | Unincorporated areas of Lemhi County (23-10-0430P) | The Honorable Lynn Bowerman, Chair, Lemhi County Board of County Commissioners, 206 Courthouse Drive, Salmon, ID 83467 | Lemhi County Building Department, 200 Fulton Street, Suite 204, Salmon, ID 83467 | Aug. 29, 2025 | 160092
Louisiana: Lafayette (FEMA Docket No.: B-2542) | Town of Duson (24-06-2322P) | The Honorable Johnny Thibodeaux, Mayor, Town of Duson, 498 Toby Mouton Road, Duson, LA 70529 | Town Hall, 498 Toby Mouton Road, Duson, LA 70529 | Sep. 18, 2025 | 220104
Nevada: Clark (FEMA Docket No.: B-2531) | City of Boulder City (24-09-0732P) | The Honorable Joe Hardy, Mayor, City of Boulder City, 401 California Avenue, Boulder City, NV 89005 | City Hall, 401 California Avenue, Boulder City, NV 89005 | Aug. 14, 2025 | 320004
North Carolina:
Durham (FEMA Docket No.: B-2538) | City of Durham (24-04-1754P) | The Honorable Leonardo Williams, Mayor, City of Durham, 101 City Hall Plaza, Durham, NC 27701 | Durham City-County Planning Department, 101 City Hall Plaza, Durham, NC 27701 | Aug. 21, 2025 | 370086
Durham (FEMA Docket No.: B-2542) | City of Durham (25-04-0232P) | The Honorable Leonardo Williams, Mayor, City of Durham, 101 City Hall Plaza, Durham, NC 27701 | Durham City-County Planning Department, 101 City Hall Plaza, Durham, NC 27701 | Sep. 26, 2025 | 370086
Durham (FEMA Docket No.: B-2538) | Unincorporated areas of Durham County (24-04-1754P) | The Honorable Nida Allam, Chair, Durham County, Board of Commissioners, 200 East Main Street, Durham, NC 27701 | Durham City-County Planning Department, 101 City Hall Plaza, Durham, NC 27701 | Aug. 21, 2025 | 370085
Texas:
Bexar (FEMA Docket No.: B-2546) | City of San Antonio (24-06-2442P) | The Honorable Ron Nirenberg, Mayor, City of San Antonio, P.O. Box 839966, San Antonio, TX 78283 | Public Works Department, Storm Water Division, 1901 South Alamo Street, 2nd Floor, San Antonio, TX 78204 | Sep. 22, 2025 | 480045
Collin (FEMA Docket No.: B-2538) | City of Plano (24-06-0008P) | The Honorable John B. Muns, Mayor, City of Plano, 1520 K Avenue, Plano, TX 75074 | City Hall, 1520 K Avenue, Plano, TX 75074 | Sep. 22, 2025 | 480140
Navarro (FEMA Docket No.: B-2542) | City of Corsicana (24-06-0096P) | The Honorable Mike Fletcher, Mayor, City of Corsicana, 200 North 12th Street, Corsicana, TX 75110 | City Hall, 200 North 12th Street, Corsicana, TX 75110 | Sep. 17, 2025 | 480498
Navarro (FEMA Docket No.: B-2542) | Unincorporated areas of Navarro County (24-06-0096P) | The Honorable H.M. Davenport, Jr., Navarro County Judge, 300 West 3rd Avenue, Suite 102, Corsicana, TX 75110 | Navarro County Courthouse, 300 West 3rd Avenue, Corsicana, TX 75110 | Sep. 17, 2025 | 480950
Tarrant (FEMA Docket No.: B-2538) | City of Fort Worth (24-06-2325P) | The Honorable Mattie Parker, Mayor, City of Fort Worth, 100 Fort Worth Trail, Fort Worth, TX 76102 | Department of Transportation and Public Works—Stormwater Management Division, 100 Fort Worth Trail, Fort Worth, TX 76102 | Sep. 18, 2025 | 480596
Wisconsin: Outagamie (FEMA Docket No.: B-2538) | City of Appleton (24-05-0370P) | The Honorable Jake Woodford, Mayor, City of Appleton, 100 North Appleton Street, Appleton, WI 54911 | City Hall, 100 North Appleton Street, Appleton, WI 54911 | Sep. 16, 2025 | 555542

[FR Doc. 2025-22239 Filed 12-5-25; 8:45 am]

BILLING CODE 9110-12-P